FEDERAL COMMUNICATIONS COMMISSION

47 CFR Part 73

[DA 07-3556; MB Docket No. 07-79; RM-11362]

Radio Broadcasting Service; Dinosaur, CO

AGENCY: Federal Communications Commission.

ACTION: Final rule.

SUMMARY: The Audio Division grants a petition for rule making filed by Cumulus Licensing LLC (“Petitioner”) to allot Channel 262C0 at Dinosaur, Colorado. Channel 262C0 can be allotted at Dinosaur in compliance with the Commission's minimum distance separation requirements at 40-03-26 North Latitude and 108-39-46 West Longitude with a site restriction of 36.4 kilometers (22.6 miles) southeast of the community's reference. A filing window for Channel 262C0 at Dinosaur, Colorado will not be opened at this time. Instead, the issue of opening a filing window for this channel will be addressed by the Commission in a subsequent order.

DATES: Effective September 24, 2007.

ADDRESSES: Secretary, Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 07-79, adopted August 8, 2007, and released August 10, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Colorado, is amended by adding Dinosaur, Channel 262C0.

Federal Communications Commission.
John A. Karousos,
Assistant Chief, Audio Division, Media Bureau.

[FR Doc. E7-17013 Filed 8-28-07; 8:45 am]

BILLING CODE 6712-01-P